DEPARTMENT OF COMMERCE

International Trade Administration

[A-351-838]

Certain Frozen Warmwater Shrimp From Brazil; Partial Rescission of Antidumping Duty; Administrative Review

AGENCY: Import Administration, International Trade Administration, Department of Commerce.

DATES: Effective Date: July 20, 2006.

FOR FURTHER INFORMATION CONTACT: Rebecca Trainor or Katherine Johnson, AD/CVD Operations, Office 2, Import Administration, International Trade Administration, U.S. Department of Commerce, 14th Street and Constitution Avenue, NW., Washington, DC 20230; telephone: (202) 482-4007 or (202) 482-4929, respectively.

SUPPLEMENTARY INFORMATION:

Background

On February 1, 2006, the Department of Commerce (the Department) published in the Federal Register a notice of opportunity to request an administrative review of the antidumping duty order on certain frozen warmwater shrimp from Brazil for the period August 4, 2004, through January 31, 2006. See Antidumping or Countervailing Duty Order, Finding, or Suspended Investigation; Opportunity to Request Administrative Review, 71 FR 5239 (February 1, 2006). On February 28, 2006, Central de Industrializacao E Distribuicao De Alimentos Ltda. (CIDA) and Produmar Cia Exportadora de Produtos Do Mar (Produmar) requested a review of the antidumping duty order on certain frozen warmwater shrimp from Brazil in accordance with 19 CFR 351.213(b)(2). Also on February 28, 2006, the petitioner ¹ requested an administrative review for numerous Brazilian exporters of subject merchandise in accordance with 19 CFR 351.213(b)(1).

¹ The petitioner in this proceeding is the Ad Hoc Shrimp Trade Action Committee.

In April 2006, the Department initiated an administrative review for 50 companies and requested that each provide data on the quantity and value of its exports of subject merchandise to the United States during the period of review (POR). These companies are listed in the Department's notice of initiation. See Notice of Initiation of Administrative Reviews of the Antidumping Duty Orders on Certain Frozen Warmwater Shrimp from Brazil, Ecuador, India and Thailand, 71 FR 17819 (April 7, 2006) (Notice of Initiation).

Between June 28, 2006, and July 6, 2006, the petitioner withdrew its requests for administrative review for the following 34 companies: ² (1) Acarau Pesca Distr. De Pesc. Imp e Exp Ltda.; (2) Aquacultura Fortaleza Aquafort SA; (3) Aquamaris Aquaculture SA; (4) Camanor—Produtos Marinhos Ltda.; (5) Camaros do Brasil Ltda.; (6) Camexim Captura Mec Exports Imports; (7) Campi Camaroa do Piaui Ltda.; (8) CIDA-Central de Industrializacao E Distribucao de Alimentos Ltda./Produmar-Cia Exportadora de Produtos do Mar; (9) Cina Companhia Nordeste de Aquicultura E Alimentacao; (10) Empaf—Empresa de Armazenagem Frigorifica Ltda.; (11) Empresa de Armazenagem Frigorifica Ltda.; (12) Ipesca; (13) Juno Ind & Com de Pescados; (14) Maricultura Netuno SA; (15) Maricultura Rio Grandense; (16) Maricultura Tropical; (17) Marine Maricultura do Nordeste; (18) MM Monteiro Pesca E Exportacao Ltda.; (19) Mucuripe Pesca Ltda., Epp.; (20) Norte Pesca; (21) Ortico; (22) Pesqueira Maguary Ltda.; (23) Pesqueira Maguary Ltda.; (24) Potiguar Alimentos do Mar Ltda.; (25) Potipora Aqualcultura Ltda.; (26) Produvale Produtos do Vale Ltda.; (27) Qualimar Comercio Importacao E Exportacao Ltda.; (28) Secom Aquicultura Comercio E Industria SA; (29) Seafarm Criacao E Comercio de Produtos Aquaticos Ltda.; (30) Sohagro Marina do Nordeste SA; (31) SM Trading Industria E Comercio Ltda.; (32) Tecmares Maricultura Ltda.; (33) Terracor Tdg Exp. E Imp. Ltda.; and (34) Torquato Pontes Pescados. On July 5, 2006, CIDA withdrew its request for review. Section 351.213(d)(1) of the Department's regulations requires that the Secretary rescind an administrative review if a party requesting a review withdraws the request within 90 days of the date of publication of the notice of initiation.

² Duplicate company names in the petitioner's request for review and request to withdraw are only listed once.

Partial Rescission of Review

We are rescinding this review with respect to the 34 companies listed above in accordance with 19 CFR 351.213(d)(1), as the petitioner and CIDA have timely withdrawn their requests for an administrative review, and because no other interested party requested a review for these companies.

This notice is published in accordance with section 751 of the Tariff Act of 1930, as amended, and 19 CFR 351.213(d)(4).

Dated: July 14, 2006.
Stephen J. Claeys,
Deputy Assistant Secretary for Import Administration.

[FR Doc. E6-11549 Filed 7-19-06; 8:45 am]

BILLING CODE 3510-DS-P